DEPARTMENT OF COMMERCE

National Oceanic and Atmospheric Administration

[I.D. 012401A]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Marine Reserve Process Design Committee (MRPDC) will hold a working meeting which is open to the public.

DATES: The MRPDC working meeting will begin Tuesday, February 13, 2001, at 10 a.m. and end by 4 p.m. the same day.

ADDRESSES: The meeting will be held in the Cascade Room of the Sheraton Portland Airport Hotel, 8235 NE Airport Way, Portland, OR; telephone: 503-249-7621.

Council address: Pacific Fishery Management Council, 2130 SW Fifth Avenue, Suite 224, Portland, OR 97201.

FOR FURTHER INFORMATION CONTACT: Jim Seger, Economic Analysis Coordinator; telephone: (503) 326-6352.

SUPPLEMENTARY INFORMATION: The primary purpose of the MRPDC meeting is to design a process, project, and budget for Phase II of the Council’s consideration of marine reserves. The Pacific Fishery Management Council (Council) has specified a two-phase process for considering whether or not to recommend marine reserves. The first phase was a conceptual evaluation that concluded in September 2000 with a Council determination that marine reserves have a role in fishery management for the groundfish fishery. During the second phase, options for the design and location of marine reserves will be developed.

Although non-emergency issues not specified the agenda may come before the MRPDC for discussion, those issues may not be the subject of formal MRPDC action during this meeting. MRPDC action will be restricted to those issues specifically listed in this notice and any issues arising after publication of this notice that require emergency action under section 305(c) of the Magnuson-Stevens Fishery Conservation and Management Act, provided the public has been notified of the MRPDC’s intent to take final action to address the emergency.

Special Accommodations

The meeting is physically accessible to people with disabilities. Requests for sign language interpretation or other auxiliary aids should be directed to Ms. Carolyn Porter at (503) 326-6352 at least 5 days prior to the meeting date.

Dated: January 24, 2001.
Richard W. Surdi,
Acting Director, Office of Sustainable Fisheries, National Marine Fisheries Service.

[FR Doc. 01-2579 Filed 1-29-01; 8:45 am]

BILLING CODE 3510-22-S